Title 3—

The President

Proclamation 8545 of August 5, 2010

National Health Center Week, 2010

By the President of the United States of America

A Proclamation

America’s community health centers are a vital component of our health care system, providing underserved communities access to coordinated primary and preventive care. During National Health Center Week, we recognize the important work of community health centers for their role in providing quality, accessible, and affordable patient care as we strive to build a health care system equipped for the 21st century.

Today, community health centers serve nearly 19 million patients across our Nation, and they are essential for underserved communities and vulnerable populations. They provide care to those who need it most, including millions of Americans with no medical insurance and whose illnesses might otherwise result in an unmet medical need or emergency room visit. As comprehensive wellness hubs, community health centers diagnose and treat illness and injury, and emphasize preventive care and wellness practices. Rooted in community-based and patient-centered care, they also respond to the unique needs of their local communities by conducting outreach and education, ensuring patients can communicate with their providers, and linking patients with social services.

My Administration has made significant investments in community health centers. Serving as an economic anchor in many low-income and economically struggling communities, community health centers are an integral source of local employment and economic growth. The American Recovery and Reinvestment Act has already provided unprecedented investments in the construction and renovation of community health centers so they can expand their staff and facilities, adopt health information technology systems, and meet their critical care needs.

The reforms in the landmark new health care law, the Affordable Care Act, also strengthen and build upon our existing system of health care centers. This law invests $11 billion in funding over the next 5 years, enabling community health centers to serve nearly double the number of patients currently receiving care, regardless of their insurance status or ability to pay. It also finances the construction of hundreds of new community health centers, bringing high quality health care, jobs, and economic benefits to countless individuals and communities.

Community health centers are at the heart of a modern, reformed health care system in America. We must continue to invest in these centers and ensure that comprehensive, culturally competent, and quality primary health care services are accessible in every community across our Nation.

NOW, THEREFORE, I, BARACK OBAMA, President of the United States of America, by virtue of the authority vested in me by the Constitution and the laws of the United States, do hereby proclaim the week of August 8 through August 14, 2010, as National Health Center Week. I encourage all Americans to celebrate this week by visiting their local community health center, meeting local health center providers, and exploring the programs they offer to keep their families healthy.

IN WITNESS WHEREOF, I have hereunto set my hand this fifth day of August, in the year of our Lord two thousand ten, and of the Independence of the United States of America the two hundred and thirty-fifth.

[FR Doc. 2010-19978

Filed 8-10-10; 11:15 am]

Billing code 3195-W0-P